ENVIRONMENTAL PROTECTION AGENCY

[ER-FRL-6667-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 1, 2005 (70 FR 16815).

Draft EISs

EIS No. 20050202, ERP No. D-CGD-A03086-00, Programmatic—Vessel and Facility Response Plans for Oil: 2003 Removal Equipment Requirements and Alternative Technology Revisions, To Increase the Oil Removal Capability, U.S. Exclusive Economic Zone (EEZ), United States, Alaska, Guam, Puerto Rico and other U.S. Territories.

Summary: EPA expressed concerns related to the synergistic effects of chemical dispersants with oil on water quality and organisms within the water column, spill modeling, and model limitations for the fate and effect of chemically dispersed oil.

Rating EC2

EIS No. 20050235, ERP No. D-NPS-F65057-IN, Lincoln Boyhood National Memorial General Management Plan, Implementation, Lincoln City, Spencer County, IN.

Summary: EPA has no objections to the proposed action.

Rating LO

EIS No. 20050266, ERP No. D-DOE-A00171-00, Proposed Consolidation of Nuclear Operations Related to Production of radioisotope Power Systems, Located or Planned Sites: Oak Ridge National Laboratory (ORNL), Tennessee; Los Alamos National Laboratory (LANL), New Mexico; and the Idaho National Laboratory (INL), Idaho, TN, NM, ID.

Summary: EPA has no objections to the proposed action.

Rating LO

EIS No. 20050310, ERP No. D-JUS-G81013-TX, Laredo Detention Facility, Proposed Contractor-Owned/Contractor-Operated Detention Facility, Implementation, Webb County, TX.

Summary: EPA has no objections to the proposed action.

Rating LO

EIS No. 20050300, ERP No. DS-NOA-E55555-00, Reef Fish (Amendment 25) and Coastal Migratory Pelagic (Amendment 17) for Extending the Charter Vessel/Headboat Permit Moratorium, Gulf of Mexico and South Atlantic.

Summary: EPA agrees with the extension of the permit moratorium, but recommended that any available moratorium data be evaluated and summarized in the FSEIS as part of the decision-making process.

Rating LO

Final EISs

EIS No. 20050270, ERP No. F-NRC-E06024-AL, Generic—License Renewal of Nuclear Plants for Browns Ferry, Unit 1, 2 and 33 (TAC Nos. MC7168, MC1769, and MC1770), Supplement 21 to NUREG-1437, Implementation, Athens, AL.

Summary: EPA expressed environmental concerns because of the uncertainty of the ultimate location of a permitted repository site for the radioactive waste.

EIS No. 20050317, ERP No. F-NAS-E12007-FL, New Horizons Mission to Pluto, Continued Preparations and Implementation to Explore Pluto and Potentially the Recently Discovered Kuiper Belt, Cape Canaveral Air Force Station, FL.

Summary: EPA's previous issues have been resolved therefore, EPA has no objection to the proposed action.

EIS No. 20050334, ERP No. F-DOE-J91000-MT, South Fork Flathead Watershed Westslope Cutthroat Trout Conservation Program, Preserve the Genetic Purity of the Westslope Cutthroat Trout Population, Flathead National Forest, Flathead River, Flathead, Powell and Missoula Counties, MT.

Summary: EPA expressed environmental concerns about potential impacts to aquatic ecosystem integrity, particularly effects to non-target species, and ecological impacts of restocking historically fishless lakes. EPA emphasizes the need to follow strict pesticide application protocols with appropriate management and mitigation measures, and establishment of a comprehensive monitoring and adaptive management program to minimize ecological and public health risks during project implementation.

EIS No. 20050335, ERP No. FS-AFS-J65419-MT, Gallatin National Forest, Updated Information, Replaces the Effects Analysis for the Northern Goshawk in the Main Boulder Fuels Reduction Project (FEIS), Implementation, Gallatin National Forest, Big Timber Ranger District, Sweetgrass and Park Counties, MT.

Summary: EPA has no objections to the proposed action and supports the proposed ecological effects monitoring.

Dated: September 13, 2005.
Robert W. Hargrove,
Director, NEPA Compliance Division, Office of Federal Activities.

[FR Doc. 05-18428 Filed 9-15-05; 8:45 am]

BILLING CODE 6560-50-P